DEPARTMENT OF COMMERCE

Bureau of the Census

Advance Monthly Retail Sales Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 13, 2000.

ADDRESSES: Direct all written comments to Linda Engelmeier, Departmental Forms Clearance Officer, Department of Commerce, Room 6086, 14th and Constitution Avenue, NW, Washington, DC 20230 (or via the Internet at LEngelme@doc.gov).

FOR FURTHER INFORMATION CONTACT: Requests for additional information or copies of the information collection instrument(s) and instructions should be directed to: Scott Scheleur, Bureau of the Census, Room 2626-FOB 3, Washington, D.C. 20233-6500, (301) 457-2713.

SUPPLEMENTARY INFORMATION:

I. Abstract

The Advance Monthly Retail Sales Survey (MARTS) provides an early indication of current retail sales activity at the United States level. Policymakers such as the Federal Reserve Board need to have the most timely estimates in order to anticipate economic trends and act accordingly. The Bureau of Economic Analysis (BEA), the Council of Economic Advisors (CEA), and other government agencies and businesses use the data to formulate economic policy and make decisions. These estimates have a high BEA priority because of their timeliness. There would be approximately a month delay in the availability of these data if this survey were not conducted. Data are collected monthly from small, medium, and large size businesses, selected using a stratified random sampling procedure. The MARTS sample is re-selected periodically, generally at two year intervals. Small and medium-size retailers are requested to participate for those two years, after which they are replaced with new panel members. Smaller firms have less of a chance for selection due to our sampling procedure. Firms canvassed in this survey are not required to maintain additional records and carefully prepared estimates are acceptable if book figures are not available. The change in the response burden is a result of a larger sample size. The sample was increased from 4,100 to 4,500 to improve the quality of the estimates.

This request is for the clearance of four similar report forms SM-44(00)A; SM-44(00)AE; SM-44(00)AS & SM-72(00)A which will be replacing the form B-104 previously used to collect data in this survey on the Standard Industrial Classification (SIC) basis. The new forms will enable us to collect information on the North American Industry Classification System (NAICS) basis. All forms request similar data items but a variety of forms are needed to address either a firm's specific kind-of-business or to ask if and when the firm began selling through an Internet site and to separately report the value of any Internet sales.

II. Method of Collection

We will collect this information by mail, FAX and telephone follow-up.

III. Data

OMB Number: 0607-0104.

Form Number: SM-44(00)A, SM-44(00)AE, SM-44(00)AS & SM-72(00)A.

Type of Review: Regular Submission.

Affected Public: Retail Businesses.

Estimated Number of Respondents: 4,500.

Estimated Time Per Response: .0833 hrs (5 minutes).

Estimated Total Annual Burden Hours: 4,500 hours.

Estimated Total Annual Cost: The cost to the respondent is estimated to be $81,900, based on annual response burden of 4,500 hours and a rate of $18.20 per hour to complete the form.

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 8, 2000.
Madeleine Clayton,
Management Analyst, Office of the Chief Information Officer.

[FR Doc. 00-20483 Filed 8-11-00; 8:45 am]

BILLING CODE 3510-07-P